DEPARTMENT OF ENERGY

Federal Energy Regulatory Commission

[Docket No. EL14-66-000]

E.ON Climate & Renewables North America LLC; Pioneer Trail Wind Farm, LLC; Settlers Trail Wind Farm, LLC v. Northern Indiana Public Service Company; Notice of Complaint

Take notice that on June 10, 2014, pursuant to sections 206 and 306 of the Federal Power Act, 16 USC 824e, 825e, and Rule 206 of the Rules of Practice and Procedure of the Federal Energy Regulatory Commission (Commission), 18 CFR 385.206, E.ON Climate & Renewables North America LLC, Pioneer Trail Wind Farm, LLC, and Settlers Trail Wind Farm, LLC (Complainants) filed a complaint against Northern Indiana Public Service Company (NIPSCO). The Complainants allege that the “Multiplier” provisions contained in two Transmission Upgrade Agreements (TUAs) between the Complainants and NIPSCO are unjust, unreasonable, and unduly discriminatory. The Complainants request that the Commission find that the Multiplier provision of the TUAs is unjust and unreasonable and unduly discriminatory, and that the Commission direct NIPSCO to remove the Multiplier from the TUAs at the earliest possible effective date. In the alternative, Complainants allege that the Commission should review the individual cost components comprising the Multiplier, including rate of return, depreciation expense, and operation and maintenance expense, and authorize NIPSCO to recover through the Multiplier only those costs that it is able to show that it actually incurs.

The Complainants certify that copies of the complaint were served on the contacts for NIPSCO as listed on the Commission's list of Corporate Officials in accordance with Rule 206(c), 18 CFR 385.206(c).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on June 30, 2014.

Dated: June 11, 2014.
Kimberly D. Bose,
Secretary.

[FR Doc. 2014-14140 Filed 6-16-14; 8:45 am]

BILLING CODE 6717-01-P